DEPARTMENT OF HOMELAND SECURITY

Coast Guard

33 CFR Part 117

[Docket No. USCG-2016-1045]

Drawbridge Operation Regulation; Willamette River, Portland, OR

AGENCY: Coast Guard, DHS.

ACTION: Notice of deviation from regulation.

SUMMARY: The Coast Guard has issued a temporary deviation from the operating schedule that governs the upper deck and lower deck of the Steel Bridge across the Willamette River, mile 12.1, at Portland, OR. The deviation is necessary to allow work crews to upgrade the electrical power and controls system. This deviation allows both upper and lower spans of the Steel Bridge to remain in the closed-to-navigation position to allow for the safe replacement of bridge operating equipment.

DATES: This deviation is effective from 5 a.m. on January 9, 2017 to 11:59 p.m. on January 18, 2017.

ADDRESSES: The docket for this deviation, USCG-2016-1045 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Union Pacific Railroad Company (UPRR) has requested a temporary deviation from the operating schedule for the Steel Bridge across the Willamette River, at mile 12.1, at Portland, OR. The deviation is necessary to accommodate work crews to conduct timely bridge equipment upgrades and replacement. The Steel Bridge is a double-deck lift bridge with a lower lift deck and an upper lift deck which operate independent of each other. To facilitate this event, the upper deck and the lower deck will remain in closed-to-navigation position. When both decks are in the closed-to-navigation position, the bridge provides 26 feet of vertical clearance above Columbia River Datum 0.0. The deviation period is from 5 a.m. on January 9, 2017 to 11:59 p.m. on January 18, 2017. The normal operating schedule for the Steel Bridge is in accordance with 33 CFR 117.897(c)(3)(ii).

Waterway usage on this part of the Willamette River includes vessels ranging from commercial tug and barge to small pleasure craft. Vessels able to pass through the bridge in the closed-to-navigation position may do so at any time. The bridge will not be able to open for emergencies, and there is no immediate alternate route for vessels to pass. UPRR has conducted a detailed public outreach for this ten day closure of both decks on the Steel Bridge to Multnomah County, and mariners that transit on the river. The Coast Guard has not received any objections to this temporary deviation from the operating schedule. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the designated time period. This deviation from the operating regulations is authorized under 33 CFR 117.35.

Dated: December 7, 2016.
Steven M Fischer,
Bridge Administrator, Thirteenth Coast Guard District.

[FR Doc. 2016-29775 Filed 12-12-16; 8:45 am]

BILLING CODE 9110-04-P